DEPARTMENT OF EDUCATION

[CFDA No. 84.293B]

Foreign Language Assistance Program (Local Educational Agencies)

AGENCY: Office of English Language Acquisition, Department of Education.

ACTION: Notice of intent to fund down the grant slate for the Foreign Language Assistance program.

SUMMARY: The Secretary intends to use the grant slate developed for the Foreign Language Assistance program in Fiscal Year (FY) 2003 to make new grant awards in FY 2004. The Secretary takes this action because a significant number of high-quality applications remain on the last year's grant slate and limited funding is available for new grant awards in FY 2004.

FOR FURTHER INFORMATION CONTACT: Rebecca Richey, U.S. Department of Education, 400 Maryland Avenue, SW., room 5617, Switzer Building, Washington, DC 20202-6510. Telephone: (202) 205-9717 or via Internet: rebecca.richey@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Background

On May 9, 2003, we published a notice in the Federal Register (68 FR 24978) inviting applications for new awards under the Foreign Language Assistance program. This notice indicated that the selection criteria, competitive preference priorities, and application requirements contained in the notice would apply to the FY 2003 grant competition only.

We received a significant number of applications for grants under the Foreign Language Assistance program in FY 2003 and made 74 new grants. Because such a large number of high-quality applications were received, many applications that were awarded high scores by peer reviewers did not receive funding last year.

Limited funding is available for new awards under this program in FY 2004. In order to conserve funding that would have been required for a peer review of new applications submitted under the program, we intend to select grantees in FY 2004 from the existing slate of applicants. This slate was developed during the FY 2003 competition using the selection criteria, competitive preference priorities, and application requirements included in the May 9, 2003 notice. No changes to selection criteria, competitive preference priorities, or application requirements will be required by this action.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7259-7259b.

Dated: April 1, 2004.
Marina Tse,
Principal Associate Deputy Under Secretary, Office of English Language Acquisition, Language Enhancement, and Academic Achievement for Limited English Proficient Students.

[FR Doc. 04-7893 Filed 4-6-04; 8:45 am]

BILLING CODE 4000-01-P